COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments, if any.

DATES: Comments must be submitted on or before July 21, 2000.

FOR FURTHER INFORMATION CONTACT: Judi E. Payne at CFTC, (202) 418-5268; FAX: (202) 418-5527; email: jpayne@cftc.gov and refer to OMB Control No. 3038-0018.

SUPPLEMENTARY INFORMATION: Title: Information Concerning Warehouses (OMB Control No. 3038-0018). This is a request for extension of a currently approved information collection.

Abstract: Under Commission rules 1.42 and 1.43, 17 CFR 1.42 and 1.43, contract markets must file a list of all warehouse regular for delivery. Upon call by the Commission, a schedule of warehouses charges and information concerning delivery notices must also be furnished. These rules are designed to assist the Commission in the prevention of market manipulation and are promulgated pursuant to the Commission's rulemaking authority contained in section 5a of the Commodity Exchange Act, 7 U.S.C. 7a.

An agency may not conduct or sponsor, and a person is not required to respond to, a collection of information unless it displays a currently valid OMB control number. The OMB control number for the CFTC's regulations were published on December 30, 1981. See 46 FR 63035 (Dec. 30, 1981). The Federal Register notice with a 60-day comment period soliciting comments on this collection of information was published on May 9, 2000 (65 FR 26817).

Burden statement: The respondent burden for this collection is estimated to average .168 hours per response. These estimates include the time needed to review instructions; develop, acquire, install, and utilize technology and systems for the purposes of collecting, validating, and verifying information, processing and maintaining information and disclosing and providing information; adjust the existing ways to comply with any previously applicable instructions and requirements; train personnel to be able to respond to a collection of information and transmit or otherwise disclose the information.

Respondents/Affected Entities: 11.

Estimated number of respondents: 1.

Estimated total annual burden on respondents: 30 hours.

Frequency of collection: Weekly.

Send comments regarding the burden estimated or any other aspect of the information collection, including suggestions for reducing the burden, to the addresses listed below. Please refer to OMB Control No. 3038-0018 in any correspondence.

Judi E. Payne, U.S. Commodity Futures Trading Commission, 1155 21st Street, NW, Washington, DC 20581, and

Office of Information and Regulatory Affairs, Office of Management and Budget, Attention: Desk Officer for CFTC, 725 17th Street, Washington, DC 20503.

Dated: June 16, 2000.
Jean A. Webb,
Secretary of the Commission.

[FR Doc. 00-15677 Filed 6-20-00; 8:45 am]

BILLING CODE 6351-01-M